DEPARTMENT OF ENERGY

Federal Energy Regulatory Commission

Combined Notice of Filings #1

Take notice that the Commission received the following electric rate filings:

Docket Numbers: ER10-2822-006; ER11-2112-005; ER10-2828-001; ER10-2285-004; ER10-2423-004; ER10-2404-004; ER12-2649-001; ER10-1725-001; ER11-2465-005; ER10-2994-010; ER10-3001-002; ER10-3002-001; ER10-3004-002; ER12-422-003; ER10-2301-002; ER10-2273-003; ER10-3010-001; ER11-2306-001; ER12-96-003; ER11-2488-004.

Applicants: Atlantic Renewable Projects II LLC, Blue Creek Wind Farm LLC, Casselman Windpower LLC, Central Maine Power Company, Flat Rock Windpower LLC, Flat Rock Windpower II LLC, Groton Wind, LLC, Hardscrabble Wind Power LLC, Iberdrola Renewables, LLC, Lempster Wind, LLC, Locust Ridge Wind Farm, LLC, Locust Ridge Wind Farm II, LLC, New England Wind, LLC, New York State Electric & Gas Corporation, PEI Power II, LLC, Providence Heights Wind, LLC, Rochester Gas & Electric Corporation, South Chestnut LLC, Streator-Cayuga Ridge Wind Power LLC.

Description: Updated Market Power Analysis for the Northeast Region of the Iberdrola MBR Sellers.

Filed Date: 12/30/13.

Accession Number: 20131230-5265.

Comments Due: 5 p.m. ET 2/28/14.

Docket Numbers: ER14-898-000.

Applicants: Cactus Energy LLC.

Description: Cactus Energy LLC seeks to cancel its Market-Based Rate Tariff.

Filed Date: 12/30/13.

Accession Number: 20131230-0010.

Comments Due: 5 p.m. ET 1/21/14.

Docket Numbers: ER14-899-000.

Applicants: AEP Generation Resources Inc.

Description: AEP Generation Resources Inc. submits Wheeling Power Supply Agreement to be effective 1/1/2014.

Filed Date: 12/30/13.

Accession Number: 20131230-5225.

Comments Due: 5 p.m. ET 1/21/14.

Docket Numbers: ER14-900-000.

Applicants: NRG California South LP.

Description: NRG California South LP submits CA South Tariff Amendment to be effective 12/31/2013.

Filed Date: 12/30/13.

Accession Number: 20131230-5224.

Comments Due: 5 p.m. ET 1/21/14.

Docket Numbers: ER14-901-000.

Applicants: NRG Marsh Landing LLC.

Description: NRG Marsh Landing LLC submits Marsh Landing Tariff Amendment to be effective 12/31/2013.

Filed Date: 12/30/13.

Accession Number: 20131230-5226.

Comments Due: 5 p.m. ET 1/21/14.

Docket Numbers: ER14-902-000.

Applicants: NRG Delta LLC.

Description: NRG Delta LLC submits Delta Tariff Amendment to be effective 12/31/2013.

Filed Date: 12/30/13.

Accession Number: 20131230-5228.

Comments Due: 5 p.m. ET 1/21/14.

Docket Numbers: ER14-903-000.

Applicants: Energy Plus Holdings LLC.

Description: Energy Plus Holdings LLC submits Energy Plus Tariff Amendment to be effective 12/31/2013.

Filed Date: 12/30/13.

Accession Number: 20131230-5229.

Comments Due: 5 p.m. ET 1/21/14.

Docket Numbers: ER14-904-000.

Applicants: El Segundo Energy Center LLC.

Description: El Segundo Energy Center LLC submits ESEC Tariff Amendment to be effective 12/31/2013.

Filed Date: 12/30/13.

Accession Number: 20131230-5230.

Comments Due: 5 p.m. ET 1/21/14.

Docket Numbers: ER14-905-000.

Applicants: Cabrillo Power II LLC.

Description: Cabrillo Power II LLC submits Cabrillo II Tariff Amendment to be effective 12/31/2013.

Filed Date: 12/30/13.

Accession Number: 20131230-5232.

Comments Due: 5 p.m. ET 1/21/14.

Take notice that the Commission received the following electric securities filings:

Docket Numbers: ES14-20-000.

Applicants: Rochester Gas & Electric Corporation.

Description: Application for Authorization to Issue Short-Term Debt Securities under FPA Section 204 of Rochester Gas and Electric Corporation.

Filed Date: 12/30/13.

Accession Number: 20131230-5264.

Comments Due: 5 p.m. ET 1/21/14.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 31, 2013.
Nathaniel J. Davis, Sr.,
Deputy Secretary.

[FR Doc. 2014-00094 Filed 1-7-14; 8:45 am]

BILLING CODE 6717-01-P